DEPARTMENT OF HEALTH AND HUMAN SERVICES

Announcement of Requirements and Registration for Blue Button Video Challenge

AGENCY: Office of the National Coordinator for Health Information Technology (ONC), HHS. Award Approving Official: Lygeia Ricciardi, Acting Director, Office of Consumer eHealth.

ACTION: Notice.

SUMMARY: The Office of the National Coordinator for Health Information Technology (ONC) announces the launch of the Blue Button Video Challenge. This challenge is an open call for the public to create short, engaging and entertaining videos that create awareness of the “Blue Button”, and encourages others to learn more about it.

This is the fifth in a series of Health IT video contests that will occur throughout 2012. The goal of this video contest series is to generate interactive content that will be used to motivate and inspire others to leverage technology to better manage their health and be more engaged partners in their health and health care. Each challenge will be a call to action for members of the public to create a short video clip [2 minutes or less] on a particular theme, and will award cash prizes to winners in several categories.

DATES: Effective on October 1, 2012.

FOR FURTHER INFORMATION CONTACT: Erin Poetter, Consumer e-Health Policy Analyst, erin.poetter@hhs.gov | 202.205.3310.

SUPPLEMENTARY INFORMATION:

Subject of Challenge Competition: ONC's Blue Button Video Challenge invites you to create an engaging and entertaining video that creates awareness of the “Blue Button”, and encourages others to learn about it. Videos should be attention grabbing and share-able!

“Blue Button” is becoming a universal symbol for you and your caregivers to get easy, secure, online access to your health information. Many people—especially healthy ones—have never actually thought about the importance of having 24 × 7 access to their health information. But it can suddenly become incredibly relevant, and potentially life-saving, in case of an emergency and may come in handy if you are traveling, seeing multiple doctors or seeking a second opinion and you want everyone to know your medical history.

Having your health care information at the click of a button can help you make sure all your health care providers are on the same page and allow you to better manage and understand your health data by plugging it into apps and tools.

If you already have access to a Blue Button, tell us about it. If you've never heard of the term until now, tell us how you'd describe the “Blue Button” to your family and friends, or what it would mean for you to have your health information at your fingertips.

You can do anything you want as long as you mention the “Blue Button”, show an image of the official Blue Button graphic, and mention www.healthit.gov/bluebutton as a source for people to find out more. We encourage you to share your video with family and friends, especially since the number of views on YouTube will be one factor when judging submissions.

Through ONC's Blue Button Pledge Community (www.healthit.gov/pledge), hundreds of private sector and non-profit organizations have voluntarily pledged to make it easier for you to get secure, electronic access to your personal health information. We expect more and more health care providers, health plans, pharmacies, labs and others to join the Blue Button Pledge and provide you and your caregivers with easy-to-use tools to securely view, download and conveniently share your health information so you can better manage your health and your health care providers can have a more complete picture of your health.

Submissions for this contest will be accepted through November 13, 2012. Please refer to the http://BlueButtonVideo.challenge.gov Web site for the most up to date information about the contest and deadlines since they are subject to change.

Eligibility Rules for Participating in the Competition

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be an employee of the Office of the National Coordinator for Health Information Technology

(7) Federal grantees may not use Federal funds to develop COMPETES Act challenge applications unless consistent with the purpose of their grant award.

(8) Federal contractors may not use Federal funds from a contract to develop COMPETES Act challenge applications or to fund efforts in support of a COMPETES Act challenge submission.

(9) May not be:

a. an employee of a commercial business whose name, brand name, product or other trademark is mentioned or featured in the Video, or

b. a contractor or employee of an affiliate, subsidiary, advertising agency, or any other company involved in marketing a commercial business, brand name, product or other trademark mentioned or featured in the Video.

(10) May not have been awarded three or more prizes cumulatively in the following ONC challenges: Healthy New Year Video Challenge, Beat Down Blood Pressure Video Challenge, What's in Your Health Record Video Challenge and Managing Meds Video Challenge.

All individual members of a team must meet the eligibility requirements.

An individual or entity shall not be deemed ineligible because the individual or entity used Federal facilities or consulted with Federal employees during a competition if the facilities and employees are made available to all individuals and entities participating in the competition on an equitable basis.

Registration Process for Participants

1. During the Challenge Submission Period, visit http://BlueButtonVideo.Challenge.gov and register (Registration is free) or log in with an existing ChallengePost account. After a Contestant signs up, a confirmation email will be sent to the email address provided. The Contestant must use the confirmation email to verify his or her email address. The registered Contestant will then be able to enter a Submission.

2. On http://BlueButtonVideo.Challenge.gov, click “Accept this challenge” to register your interest in participating. This step ensures that you will receive important challenge updates.

3. Create a video and ensure the following (please read the Official Rules on http://BlueButtonVideo.Challenge.gov for complete requirements):

a. Your video must mention the “Blue Button” and show an image of the Blue Button logo and

b. Your video must encourage viewers to visit www.HealthIT.gov/bluebutton for more information

c. Your video is no longer than 2 minutes

4. Confirm that you have read and agreed to the Official Rules.

5. Submit the following items collectively in your submission by the submission deadline (Please refer to the http://BlueButtonVideo.challenge.gov Web site for the most up to date information about the requirements and deadlines since they are subject to change.)

• The title of the Video;

• A link to the Video on YouTube.com or Vimeo.com (the Video should be no longer than 2 minutes);

• A text description of your video;

• A transcript of the words spoken or sung in the video;

• Uploaded consent forms for everyone who appears in the video regardless of age.

All individuals that appear in a Video must complete and sign the Video Consent Form. If a minor appears in the Video, the minor's parent/legal guardian must also sign the Video Consent Form. A Submission will not be considered complete and eligible to win prizes without a completed Video Consent Form being uploaded from all individuals that appear in the Video. All completed Video Consent Forms must include a handwritten signature, and be scanned, combined in to a single file (ZIP, PDF, or doc), and uploaded on the submission form on BlueButtonVideo.Challenge.gov.

Amount of the Prize

Winner | Prize | Quantity
First Prize | $3,000 | 1
Second Prize | 2,000 | 1
Third Prize | 1,250 | 1
Honorable Prize | 750 | 2
Popular Choice | 600 | 1

Basis Upon Which Winner Will Be Selected

Videos will be judged based on the following criteria (to be equally weighted):

1. Creativity (Includes elements such as the creativity and coherence of the script/story)

2. Potential Impact on Increasing Awareness of Blue Button (Includes whether the video is compelling, inspiring, instructive, and share-able. Does this video create awareness of the “Blue Button” in a way that would resonate with others? The number of views on YouTube will be a consideration.)

3. Implementation of the Idea (Includes elements such as the quality of the video content, narrative and visual appearance)

The five (5) Contestants whose Submissions earn the highest overall score will win, respectively, the prizes identified below in Section 8. In the event of a tie, winners will be selected based on their score on the criteria described in (2), then (1), and then (3). If there is still a tie then the winner will be selected based on a vote by the judging panel.

There will be one Popular Choice award for the video that receives the most number of verified votes during the voting period.

Please refer to http://bluebuttonvideo.challenge.gov for the latest information about this contest.

Authority: 15 U.S.C. 3719.

Dated: September 25, 2012.
Erin Poetter,
Office of Consumer eHealth, Office of the National Coordinator for Health Information Technology (ONC), Office of the Secretary (OS).

[FR Doc. 2012-24299 Filed 10-2-12; 8:45 am]

BILLING CODE 4150-45-P